DEPARTMENT OF THE TREASURY

Submission for OMB Review; Comment Request

April 22, 2003.

The Department of the Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before June 4, 2003 to be assured of consideration.

Internal Revenue Service (IRS)

OMB Number: 1545-0805.

Form Number: IRS Forms 5472.

Type of Review: Revision.

Title: Information Return of a 25% Foreign-Owned U.S. Corporation or a Foreign Corporation Engaged in a U.S. Trade or Business.

Description: Form 5472 is used to report information bout transactions between a U.S. corporation that is 25 percent foreign owned or a foreign corporation that is engaged in a U.S. trade or business and related foreign parties. The IRS uses Form 5472 to determine inventory or other costs deducted by the U.S. or foreign corporation are correct.

Respondents: Business or other for-profit.

Estimated Number of Respondents/Recordkeepers: 103,784.

Estimated Burden Hours Per Respondent/Recordkeeper:

Recordkeeping—17 hr., 42 min.

Learning about the law or the form—3 hr., 4 min.

Preparing and sending the form to the IRS—3 hr., 30 min.

Frequency of Response: Annually.

Estimated Total Reporting/Recordkeeping Burden: 2,569,692 hours.

OMB Number: 1545-1227.

Regulation Project Number: FI-104-90 Final.

Type of Review: Extension.

Title: Tax Treatment of Salvage and Reinsurance.

Description: The regulation provides a disclosure requirement for an insurance company that increases losses shown on its annual statement by the amount of estimated salvage recoverable taken in account.

Respondents: Business or other for-profit.

Estimated Number of Respondents: 2,500.

Estimated Burden Hours Per Respondent: 2 hours.

Frequency of Response: Annually.

Estimated Total Reporting Burden: 5,000 hours.

OMB Number: 1545-1254.

Regulation Project Number: FI-34-91 Final.

Type of Review: Extension.

Title: Conclusive Presumption of Worthlessness of Debts Held by Banks.

Description: Paragraph (d)(3) of section 1.166-2 of the regulations allows banks and thrifts to elect to conform their tax accounting for bad debts with their regulatory accounting. An election, or revocation thereof, is a change in method of accounting. The collection of information required in section 1.166-2(d)(3) is necessary to monitor the elections.

Respondents: Business or other for-profit.

Estimated Number of Respondents/Recordkeepers: 200.

Estimated Burden Hours Per Respondent/Recordkeeper: 15 minutes.

Frequency of response: On occasion.

Estimated Total Reporting/Recordkeeping Burden: 50 hours.

OMB Number: 1545-1824.

Regulation Project Number: REG-139768-02 NPRM and Temporary.

Type of Review: Extension.

Title: Excise Tax Relating to Structured Settlement Factoring Transaction.

Description: The regulations provide rules relating to the manner and method of reporting and paying the 40 percent excise tax imposed by section 5891 of the Internal Revenue Code with respect to acquiring of structured payment rights.

Respondents: Business or other for-profit, Individuals and households.

Estimated Number of Respondents/Recordkeepers: 4.

Estimated Burden Hours Per Respondent: 2 hours.

Estimated Burden Hours Per Recordkeeper: 30 minutes.

Frequency of Response: On occasion.

Estimated Total Reporting/Recordkeeping Burden: 2 hours.

Clearance Officer: Glenn Kirkland, Internal Revenue Service, Room 6411-03, 1111 Constitution Avenue, NW., Washington, DC 20224, (202) 622-3428.

OMB Reviewer: Joseph F. Lackey, Jr., Office of Management and Budget, Room 10235, New Executive Office Building, Washington, DC 20503, (202) 395-7316.

Lois K. Holland,
Departmental Reports Management Officer.

[FR Doc. 03-10989 Filed 5-2-03; 8:45 am]

BILLING CODE 4830-01-P